DEPARTMENT OF DEFENSE

Office of the Secretary

[Docket ID DoD-2022-OS-0008]

Proposed Collection; Comment Request

AGENCY: The Office of the Under Secretary of Defense for Personnel and Readiness (USD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by March 28, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05 Alexandria, VA 22350, LaTarsha Yeargins, 571-372-2089.

SUPPLEMENTARY INFORMATION: Title; Associated Form; and OMB Number: Exceptional Family Member Program Survey; OMB Control Number 0704-EFMS.

Needs and Uses: The Quick Compass survey of the Exceptional Family Member Program (EFMP) is a DoD-wide large-scale survey of active duty members that will be used to systematically evaluate active duty service member perceptions of the EFMP. This is the baseline administration of this survey. The survey will assess topics such as perceptions of the EFMP enrollment process, family support, and referrals. Data will be aggregated by appropriate demographics, including Service, and paygrade. In order to be able to meet reporting requirements for DoD leadership, the Military Services, and Congress, the survey needs to be completed by December 2022. Results will be used by the Military Services to evaluate their EFMP programs and will be reported to Congress.

Affected Public: Individuals or households.

Annual Burden Hours: 4,500 hours.

Number of Respondents: 18,000.

Responses per Respondent: 1.

Annual Responses: 18,000.

Average Burden per Response: 15 minutes.

Frequency: On occasion.

Dated: January 19, 2022.
Aaron T. Siegel,
Alternate OSD Federal Register Liaison Officer, Department of Defense.

[FR Doc. 2022-01405 Filed 1-24-22; 8:45 am]

BILLING CODE 5001-06-P